DEPARTMENT OF TRANSPORTATION

Federal Transit Administration

Environmental Impact Statement for Transportation Improvements Within the Southeast Corridor, Charlotte, NC

AGENCY: Federal Transit Administration, DOT.

ACTION: Notice of Intent to prepare an Environmental Impact Statement (EIS).

SUMMARY: The Federal Transit Administration (FTA), the Federal lead agency, and the City of Charlotte, the local lead agency, intend to prepare an environmental impact statement (EIS) in accordance with the National Environmental Policy Act (NEPA) for transportation improvements within the proposed Southeast Corridor in Mecklenburg County, North Carolina. The study corridor of approximately 13.5 miles extends from Uptown Charlotte (the center city) in Mecklenburg County to the border with Union County to the south.

The Charlotte-Mecklenburg region is developing an integrated land use and supportive transit plan. Building on the 2025 Integrated Transit/Land Use Plan for Charlotte-Mecklenburg, four corridor Major Investment Studies (MISs) are being prepared for the North, Northeast (University), Southeast (Independence), and West (Airport) corridors. A previously-prepared MIS for the South Corridor resulted in a light rail transit project for that corridor.

The EIS will be prepared following completion of a MIS for the Southeast Corridor. The Southeast Corridor MIS will evaluate the land use, mobility, and environmental benefits, costs and impacts of various land use and transportation alternatives. The MIS will evaluate the following alternatives: a No-Build alternative; a Transportation System Management alternative consisting of low to medium cost improvements to the facilities and operation of local bus services (Charlotte Area Transit System) in addition to currently planned transit improvements in the study corridor; and multiple “Build” alternatives including bus rapid transit, various types of rail transit facilities, and combinations of these types of transit services, as well as alternative land use scenarios. (See Section III. Alternatives for additional information).

The sequence of events for the planning and development for this project include the following major milestones:

Scoping Process—early opportunity for public input to the study scope, including alternatives and issues to be evaluated.

Major Investment Study (MIS)—evaluation of proposed improvement alternatives, early consideration of environmental factors, concluding with the selection of a Locally Preferred Alternative (LPA).

Preliminary Engineering/Environmental Impact Statement (PE/EIS)—detailed definition of the LPA, evaluation of design options, assessment of potential impacts, development of mitigation measures, preparation and circulation of the Draft EIS, public meetings, and completion of a Final EIS.

Scoping will be accomplished through correspondence with interested persons, organizations, and federal, state, and local agencies, and through public and agency meetings.

DATES: Comment Due Date: Written comments on the scope of alternatives and impacts to be considered should be sent to Catondra Noye, Project Manager, Charlotte Area Transit System, by October 16, 2000. See ADDRESSES below. Scoping Meetings:

Public scoping meetings will be held on:

Tuesday, September 21, 2000, 6:30 pm to 9:00 pm: Cokesbury United Methodist Church, 6701 Idlewild Road, Charlotte, NC

Thursday, September 26, 2000, from 6:30 pm to 9:00 pm: Matthews Community Center, 200 McDowell Street, Matthews, NC

Wednesday, September 27, 2000, 6:30 pm-9:00 pm: Charlotte-Mecklenburg Government Center, 600 E. Fourth St., Charlotte, NC 28202 (Joint meeting with all corridors—Center City focus)

Scoping material will be available at the meeting or in advance of the meeting by contacting Catondra Noye at CATS.

An agency scoping meeting will be held on Wednesday, September 27, 2000, 10 am to 1 pm at the Charlotte-Mecklenburg Government Center. See ADDRESSES below.

Scoping is being conducted for three other related corridors—Northeast (University), North, and West (Airport)—in the Charlotte-Mecklenburg region at approximately the same time with separate public scoping meetings, as published in separate Notices of Intent. The agency scoping meeting for the Southeast Corridor will be held in conjunction with the three other corridors to address inter-related issues and coordination.

ADDRESSES: Written comments on the scope of alternatives and impacts to be studied should be sent to Catondra Noye, City of Charlotte, 600 East Fourth Street, Charlotte, NC 28202-2858. Public scoping meetings will be held at the following locations: The Cokesbury United Methodist Church, 6701 Idlewild Road, Charlotte, NC; the Matthews Community Center, 200 McDowell Street, Matthews, NC; and the Charlotte-Mecklenburg Government Center, 600 E. Fourth St., Charlotte, NC 28202. See DATES above.

FOR FURTHER INFORMATION CONTACT: Ms. Myra Immings, Federal Transit Administration, Region IV, 61 Forsyth Street SW, Suite 17T50, Atlanta, GA 30303; Telephone (404) 562-3508.

SUPPLEMENTARY INFORMATION:

I. Scoping

The FTA and the City of Charlotte invite interested individuals, organizations, and federal, state and local agencies to participate in defining the alternative transit modes and alignments to be evaluated and identifying any significant social, economic, or environmental issues related to the alternatives. Primary issues to be considered include the changes in land uses and future development as they relate to alternative transit systems. Specific suggestions related to additional alternatives to be examined and issues to be addressed are welcome and will be considered in the final scope of the project. Scoping comments may be made at the scoping meetings or in writing no later than October 16, 2000. (see DATES and ADDRESSES above). During scoping, comments should focus on identifying specific social, economic, or environmental impacts to be evaluated, and suggesting alternatives that are less costly or less environmentally damaging which achieve similar transit objectives. Comments should focus on the issues and alternatives for analysis, and not on a preference for a particular alternative.

An information packet, referred to as the Scoping Booklet, will be circulated to all Federal, State, and local agencies with jurisdiction in the project area. Scoping materials will be available at the meeting or in advance of the meeting by contacting the City of Charlotte as indicated above. If you wish to be placed on the mailing list to receive further information as the project continues contact Catondra Noye at the Charlotte Area Transit System (see ADDRESSES above).

II. Description of Corridor and Project Need

The Southeast Corridor project is a direct outgrowth of prior transit planning activities for the region. The 2025 Integrated Transit/Land Use Plan for Charlotte-Mecklenburg, developed in 1998, identified key centers of economic activity and the five major transportation corridors in the Charlotte region. The 2025 Plan calls for concentrating development along these corridors and proposes a rapid transit system as a means to support land use initiatives to attain this vision in order to sustain economic growth and protect citizens' quality of life. The 2025 Plan identified the Southeast Corridor as a high-priority transit corridor based on current and future mobility needs, cost feasibility and potential ridership.

The proposed project corridor extends approximately 13.5 miles from Uptown Charlotte (the center city) in Mecklenburg County to the Mecklenburg County border with Union County to the south, includes portions of the Town of Matthews and is generally one to two miles wide. Approximately the first 10 miles of the corridor from Uptown is within the City of Charlotte, while the rest of the corridor (approximately 3.5 miles) lies within the Town of Matthews or unincorporated Mecklenburg County. The corridor is primarily served by two major thoroughfares, Independence Boulevard (US 74) and 7th Street/Monroe Road/John Street (State Route 1009). US 74 is a multi-lane, limited access freeway from I-277 to Briar Creek Road (approximately two miles). East of Briar Creek Road US 74 is a multi-lane divided road until I-485, where it becomes limited access again. The freeway portion of US 74 contains a reversible High Occupancy Vehicle (HOV) lane, which is currently being used as an exclusive two-way busway for express bus service. SR 1009 is a multi-lane road. CSX Transportation also owns and operates a double track main line railroad through the corridor. From the west (Uptown Charlotte), the corridor includes parts of Charlotte's historic neighborhoods of Elizabeth, Colonial Heights, Chantilly and Commonwealth-Morningside. These areas also include the main campus of Central Piedmont Community College and Presbyterian Hospital. East of these neighborhoods, the corridor passes the Independence Arena, Merchandise Mart and Ovens Auditorium. East of Wendover Road/Eastway Drive the corridor contains a mix of non-residential uses along SR 1009 and older retail centers along US 74 with residential properties located behind the retail. Further east, development along US 74 continues to consist of shopping centers, along with some offices and residential (mostly apartments) fronting the highway and residential areas located behind the strip developments. SR 1009 passes through office and light industrial uses located along the CSX railroad while there are residential areas east of Idlewild. Near Sardis Road North and McAlpine Creek, the Crown Point area contains almost exclusively retail, some office and some residential development south of SR 1009. Adjacent to Crown Point, the Town of Matthews consists of mostly industrial, warehouses, residential, some retail, a hospital, an active compact historic downtown, and some of the largest tracts of undeveloped land in the corridor.

Independence Boulevard (US 74) is currently a divided four-lane to six-lane highway within the study area and has an annual average daily traffic volume of as many as 107,000 vehicles per day in the year 1998. This facility experiences severe congestion and delays throughout the day and is considered to be one of the major transportation problems facing this rapidly growing region. Currently, Independence Blvd. is rated as having very poor mobility with a projected 50 percent increase in traffic volumes for the year 2020. The thoroughfare plan calls for the freeway/HOV to be extended 1.5 miles to Albemarle Road within the next five years. According to the State Transportation Improvement Plan, the freeway and possible HOV lane may be extended the entire length of the corridor sometime after 2005. However, even with these roadway improvements, a substantial portion of this facility will still experience severe congestion by the year 2015.

Future growth projections for the region estimate a population increase of 57 percent and a 47 percent increase in employment by the year 2025. Portions of the Southeast Corridor study area are among the fastest-growing communities in the state.

The Charlotte Metropolitan Area has exceeded the Environmental Protection Agency's 1-hour and 8-hour standard for ozone each of the past three years. These violations will likely result in the County being designated as a non-attainment area for ozone, which will be officially stated by US EPA early next year. The primary contributor of air pollutants in the region is mobile emissions.

III. Alternatives

The alternatives proposed for evaluation include: (1) No-Build, which involves no change to transportation service or facilities in the corridor beyond already committed projects; (2) a Transportation System Management alternative, which consists of low to medium cost improvements to the operations of the local bus service, the Charlotte Area Transit System, in addition to the currently planned transit improvements in the corridor; and (3) multiple “Build” alternatives including bus rapid transit (BRT) facilities along the Independence Blvd. corridor and various modes of rail service including commuter rail and light rail transit (LRT) generally following the existing CSX railroad right-of-way and/or major arterials within the study corridor. The “Build” alternatives may include alternative land use scenarios to evaluate the potential for focusing development around transit stations. Additional reasonable alternatives suggested through the scoping process may also be considered.

IV. Probable Effects

FTA and the City of Charlotte will identify potentially significant social, economic, and environmental impacts associated with the alternatives considered in the MIS. The primary environmental issues to be considered include potential impacts to air quality, noise and vibration, historical and archaeological resources, visual quality, wetlands, natural areas, rare and endangered species, water quality and potential contamination sites. The primary social and economic impacts proposed for analysis in the MIS include potential changes in land use and future developments, neighborhood and community resource impacts, relocations and displacement impacts, and traffic impacts throughout the project corridor. In addition, both beneficial and adverse impacts to minority and low-income groups will be evaluated. The impacts will be evaluated both for the construction period and for the long-term period of operation. Potential measures to mitigate any significant adverse impacts will be identified.

V. FTA Procedures

In accordance with the federal transportation planning regulations (23 CFR part 450), the MIS will be prepared to include an evaluation of the social, economic, environmental impacts and benefits of the alternatives. The MIS will consider the public and agency comments received. At the conclusion of the MIS, the Metropolitan Transit Commission will select the preferred mode and general alignment alternative for the Southeast Corridor (the LPA). Once the LPA has been included in the Mecklenburg-Union Metropolitan Planning Organization's adopted long-range transportation plan, this project and associated alignment, design, and other options will be further studied in the Preliminary Engineering/Environmental Impact Statement (PE/EIS) phase of project development. Opportunities for agency and public involvement will be provided throughout the MIS and PE/EIS phases.

Dated: September 22, 2000.
Jerry Franklin,
FTA Regional Administrator.

[FR Doc. 00-24862 Filed 9-28-00; 8:45 am]

BILLING CODE 4910-57-P